DEPARTMENT OF LABOR

Occupational Safety and Health Administration

Federal Advisory Council on Occupational Safety and Health; Notice of Meeting

Notice is hereby given of the date and location of the next meeting of the Federal Advisory Council on Occupational Safety and Health (FACOSH), established under Section 1-5 of Executive Order 12196 on February 6, 1980, published in the Federal Register, February 27, 1980 (45 FR 1279). FACOSH will meet on January 8, 2003, starting at 9 a.m., in Room N-3437 A/B/C/D of the Department of Labor Frances Perkins Building, 200 Constitution Avenue, N.W., Washington, DC 20210. The meeting will adjourn at approximately 11:30 a.m., and will be open to the public. All persons wishing to attend this meeting must exhibit photo identification to security personnel.

Agenda items will include:

1. Call to Order

2. Report from Workgroups

a. Federal Executive Institute training initiative

b. Proposed Recordkeeping Changes

3. Federal Safety, Health, and Return-to-Employment Proposal

4. OSHA Webpage Project

5. Update on Federal Safety and Health Council Conference

6. New business

7. Adjournment

Written data, views, or comments may be submitted, preferably with 20 copies, to the Office of Federal Agency Programs at the address provided below. All such submissions, received by December 19, 2002, will be provided to the Federal Advisory Council members and will be included in the record of the meeting. Anyone wishing to make an oral presentation should notify the Office of Federal Agency Programs by the close of business January, 3 2002. The request should state the amount of time desired, the capacity in which the person will appear, and a brief outline of the content of the presentation. Persons who request the opportunity to address the Federal Advisory Council may be allowed to speak, as time permits, at the discretion of the Chairperson. Individuals with disabilities who wish to attend the meeting should contact Tom Marple at the address indicated below, if special accommodations are needed.

For additional information, please contact Thomas K. Marple, Director, Office of Federal Agency Programs, U.S. Department of Labor, Occupational Safety and Health Administration, Room N-3622, 200 Constitution Avenue, NW., Washington, DC 20210, telephone number (202) 693-2122. An official record of the meeting will be available for public inspection at the Office of Federal Agency Programs.

Signed at Washington, DC, this 11th day of December 2002.
John L. Henshaw,
Assistant Secretary of Labor for Occupational Safety and Health.

[FR Doc. 02-31783 Filed 12-18-02; 8:45 am]

BILLING CODE 4510-26-M